DEPARTMENT OF EDUCATION

[CFDA No. 84.215C]

Office of Educational Research and Improvement; Fund for the Improvement of Education—Comprehensive School Reform Capacity Building Grants; Notice Inviting Applications for New Awards for Fiscal Year (FY) 2000

Purpose of Program: The purpose of the Fund for the Improvement of Education (FIE) is to support nationally significant programs to improve the quality of education, assist all students to meet challenging State content standards, and contribute to the achievement of the National Education Goals. The purpose of this competition is to develop the long-term capacity of comprehensive school reform models to better serve schools as described in the Priorities section of this application notice.

Eligible Applicants: State and local educational agencies, institutions of higher education, and other public and private agencies, organizations, and institutions.

Applications Available: April 21, 2000.

Deadline for Transmittal of Applications: June 9, 2000.

Deadline for Intergovernmental Review: August 8, 2000.

Estimated Available Funds: $15,000,000.

Estimated Range of Awards: $500,000—$1,000,000.

Estimated Average Size of Awards: $750,000.

Maximum Award: We will reject any application that proposes a budget exceeding $1,000,000 in any budget period.

Estimated Number of Awards: 20.

Note: The Department is not bound by any estimates in this notice.

Budget Period: 12 months.

Project Period: Up to 36 months.

Page Limit: The application narrative is where you, the applicant, address the selection criteria reviewers will use to evaluate your application. You must limit the application narrative to the equivalent of no more than 25 double-spaced pages using the following standards:

• A page is 8.5″ x 11″, with printing on one side only.

• Double-space all text in the application narrative (no more than three lines in a vertical inch)..

We strongly encourage applicants to use a font that is 12-point or larger with one-inch margins.

The page limit does not apply to the cover sheet; the budget section, including the narrative budget justification; the assurances and certifications; or the one-page abstract, the resumes, the bibliography, or the letters of support.

If the narrative section is more than the equivalent of the 25 double-spaced page limit, or if to meet the page limit, you use more than one side of the page or you use a larger page, our reviewers will not evaluate the portion of your application that goes beyond the equivalent of the specified page limit.

Applicable Regulations: (a) The Education Department General Administrative Regulations (EDGAR) in 34 CFR parts 74, 75, 77, 79, 80, 81, 82, 85, 86, 97, 98, and 99; and (b) The regulations in 34 CFR part 299.

SUPPLEMENTARY INFORMATION: The purpose of the Fund for the Improvement of Education (FIE) is to support nationally significant programs to improve the quality of education, assist all students to meet challenging State content standards, and contribute to the achievement of the National Education Goals. The purpose of this competition is to develop the long-term capacity of comprehensive school reform models to better serve schools as described in the Priorities section of this notice.

The Conference Report for the Department's fiscal year 2000 appropriation directs the Secretary to make awards to providers of comprehensive school reform models. A comprehensive school reform model is one in which all systems within a school—organization, instruction, professional development and management—and all of the school's classrooms are actively engaged in and accountable for the implementation of a common, articulated strategy to improve teaching and learning for all students in the school.

The Secretary believes that the purpose of the Comprehensive School Reform program is to substantially improve student achievement. These programs are intended to stimulate school-wide change covering virtually all aspects of school operations, rather than a piecemeal, fragmented approach to reform. In order to enhance the long-term capacity of models to provide higher quality services to greater numbers of schools, the Secretary believes that the model developers must engage in a process of continuous improvement based on careful analysis of their work.

In shaping these priorities, the Secretary has consulted widely with the field and drawn on the Department's experiences over the past three years with the Comprehensive School Reform and Demonstration Program (CSRDP). Recent reports on comprehensive school reform indicate that issues surrounding the implementation of models are very important to their success with teachers and students. Such issues as the district's role in supporting schools undertaking comprehensive school reform, the role of school leadership, community support, teacher capacity and availability of time, the relationship of the model to the existing curriculum in the school, the relationship of the model to the State and local standards and performance measures, among others, have a significant impact on the successful implementation of models in multiple sites throughout the nation. Most models have not developed a systematic way of collecting and analyzing information on implementation of their approach in schools. The Secretary believes that developing such systems will greatly enhance the long-term capacity of models to improve their work and have a positive impact on schools.

To determine the capacity and needs of model developer organizations for funding under this competition, the Secretary requires that the applicants provide a thorough description of their evidence of effectiveness, particularly their student outcome data. He also requires that applicants demonstrate that their models are operating successfully in at least 15 schools to qualify as a national model, and that the model developers demonstrate that there is a significant unmet demand from schools and/or school districts for the model.

The Secretary has determined that the following activities are most likely to improve the long-term ability of models to provide high quality services to larger numbers of schools.

The Secretary believes that more attention needs to be given to activities that support the continuous improvement of models as they scale up and reach larger numbers of schools. Most comprehensive school reform models need to develop and implement data collection and feedback systems that track and provide timely feedback on such activities as: (a) the effectiveness of the professional development provided by the model; (b) the usefulness of materials and technical assistance provided by the model; (c) the model's effectiveness in schools with special populations; (d) the on-going support of staff for the model; and, (e) the model's success in achieving high fidelity implementation in multiple sites. The Secretary believes that providers of comprehensive school reform models will benefit from developing and implementing data collection and feedback systems that track implementation in all schools adopting their approach. Further, these systems should include data to permit analysis of the role of the district in supporting implementation. Through these efforts the providers of comprehensive school reform models will increase their ability to serve more schools well. The Secretary believes that the assistance of a third-party evaluator will strengthen the effectiveness of some or all of the activities of this part of the priority.

There is research that suggests that the most effective way to increase student learning is to improve the curriculum and associated teaching strategies in the core subject areas and align them with state and local content standards and performance measures. The Secretary believes that the impact of some comprehensive school reform models would be improved by strengthening the teaching and learning that is a part of the model's design.

There is evidence that some comprehensive school reform models do not have the capacity to work effectively with the lowest performing schools. Yet, students in these schools are most often most at risk of failure. Therefore, the Secretary believes that some models would improve their capacity by developing materials and processes that specifically address the needs of the lowest performing schools which will allow them to expand their services into more of these schools.

There is evidence that some of the comprehensive school reform models do not address the concerns of special populations as successfully as they could. English language learners or children with disabilities or both often need specialized materials and support. Therefore, the Secretary believes developers should augment their models to better serve special populations of students.

The Secretary understands that developers of national comprehensive school reform models are finding that it is difficult to meet the demands of an increasing number of schools seeking assistance. Therefore, the Secretary asks the applicants to articulate their specific needs for increasing their capacity in order to scale-up their operation, and to describe the activities that will expand their ability to work more effectively with larger numbers of schools.

Finally, the Secretary believes that the projects funded under this program will benefit from collaboration with other projects, both to improve their individual efforts as well as to contribute to the overall knowledge on comprehensive school reform. Projects will be expected to collaborate with Department of Education staff and expert consultants in the design of a core set of data collection instruments and analytic measures. It is expected that these will be used to provide continuous feedback on the quality of implementation across the designs and provide the public with data about the effectiveness of the designs in improving student achievement. Projects are required to set aside a minimum of ten (10) percent of their budget for this purpose.

Priorities

Absolute Priority

The Secretary gives absolute preference to applications that meet the absolute priority in the next paragraph. The Secretary funds under this priority only applications that meet this absolute priority. (34 CFR 75.105(c)(3)).

Absolute Priority—Comprehensive School Reform Models

An applicant must propose a set of activities that are designed to improve the quality of the services provided by a comprehensive school reform model and increase the number of schools served by the model. To be considered for funding, the comprehensive school reform model developer must provide evidence of the model's effectiveness in improving student achievement in high-poverty schools, particularly by providing information on the impact on student achievement. The model must also be operating successfully in at least fifteen (15) schools to be considered for funding under this program and demonstrate that there is a demand from schools interested in adopting the model. The applicant must explain the analytic process and the subsequent results of that process that led to their proposed activities for improving the quality and quantity of services to schools.

(a) Each application must propose one or more of the following activities. We will not consider other activities for funding:

(1) Designing and using continuous improvement processes to track and provide timely feedback on the model's services to adopting schools. [Participation of a third-party evaluator strengthens this effort. See Competitive Priority 1.]

(2) Strengthening the curriculum and instruction provided by the model, particularly in reading and mathematics, and aligning it with state and local content standards and performance measures.

(3) Developing processes and materials to better support the lowest performing and most troubled schools.

(4) Developing processes and materials to enhance the model's ability to serve special population of students (e.g., English language learners and students with disabilities.)

(5) Supporting other activities that the applicant demonstrates will allow them to serve a larger number of schools with high-quality services.

(b) In addition to the above menu of activities, the applicant must participate in the collaborative design and use of a core set of data collection instruments and analytic measures to carry out the formative and outcome evaluation activities. Department of Education staff will facilitate a process of bringing together project staff funded through this effort and expert consultants to collaborate on the design of the formative and outcome evaluation activities. Each project must set aside a minimum of 10 percent of its budget for this purpose.

Competitive Priorities

The Secretary will give competitive preference, as indicated under each priority, to applications that meet one or both of the following competitive priorities.

Competitive Priority 1

Priority will be given to projects that include a comprehensive formative evaluation plan, including a third-party evaluator.

Under 34 CFR 75.105(c)(2)(i) we award an additional five (5) points to an application, depending on how well the application meets the priority.

Competitive Priority 2

Priority will be given to projects that serve a school or schools located in rural or isolated areas.

Under 34 CFR 75.105(c)(2)(ii) we give preference to an application that meets the priority over an application of comparable merit that does not meet the priority.

Intergovernmental Review

This program is subject to the requirements of Executive Order 12372 and the regulations in 34 CFR part 79. The objective of the Executive order is to foster an intergovernmental partnership and a strengthened federalism by relying on processes developed by State and local governments for coordination and review of proposed Federal financial assistance. In accordance with the order, this document is intended to provide early notification of the Department's specific plans and actions for this purpose.

Waiver of Proposed Rulemaking

In accordance with the Administrative Procedure Act (5 U.S.C. 553), it is the practice of the Department of Education to offer interested parties the opportunity to comment on proposed priorities that are not taken directly from statute. Ordinarily, this practice would have applied to the priorities in this notice. Section 437(d)(1) of the General Education Provisions Act (GEPA), however, exempts rules that apply to the first grant competition under a new program or substantially revised program from this requirement. The Conference Report for the Department's FY 2000 appropriation directs the Secretary to make awards “to providers of comprehensive school models.” This will be the first grant competition conducted under the authority of the Fund for Improvement of Education program, 20 U.S.C. 8001, that concerns comprehensive school reform. The Secretary, in accordance with section 437(d)(1) of GEPA, to ensure timely awards, has decided to forego public comment with respect to the priorities. The priorities will apply only to the FY 2000 grant competition.

For Applications Contact: Julie Coplin, U.S. Department of Education, 555 New Jersey Avenue, NW., room 502J, Washington, DC 20202-5645 Telephone: (202) 219-2089; e-mail julie_coplin@ed.gov. If you use a telecommunications device for the deaf (TDD), you may call the Federal Information Relay Service (FIRS) at 1-800-877-8339.

For Further Information Contact: Cheryl Kane, U.S. Department of Education, 555 New Jersey Avenue, NW., room 604B Washington, DC 20202-5530. Telephone: (202) 208-2991; e-mail: cheryl_kane@ed.gov. If you use a telecommunications device for the deaf (TDD), you may call the Federal Information Relay Service (FIRS) at 1-800-877-8339.

Alternative Formats

Individuals with disabilities may obtain this document in an alternative format (e.g., Braille, large print, audiotape, or computer diskette) on request to the program contact person listed under For Applications Contact.

Individuals with disabilities may obtain a copy of the application package in an alternative format by contacting the person listed under For Applications Contact. However, the Department is not able to reproduce in an alternative format the standard forms included in the application package.

Electronic Access to This Document

You may view this document, as well as all other Department of Education documents published in the Federal Register, in text or Adobe Portable Document Format (PDF) on the Internet at either of the following sites:

http://ocfo.ed.gov/fedreg.htm

http://www.ed.gov/news.html

To use the PDF you must have the Adobe Acrobat Reader Program with Search, which is available free at either of the previous sites. If you have questions about using the PDF, call the U.S. Government Printing Office (GPO) toll free, at 1-888-293-6498; or in the Washington, DC area at (202) 512-1530.

Note: The official version of this document is the document published in the Federal Register. Free Internet access to the official edition of the Federal Register and the Code of Federal Regulations is available on GPO Access at: http://www.access.gpo.gov/nara/index.html.

Program Authority: 20 U.S.C. 8001.

Dated: April 10, 2000.
C. Kent McGuire,
Assistant Secretary for Educational Research and Improvement.

[FR Doc. 00-9355 Filed 4-13-00; 8:45 am]

BILLING CODE 4000-01-U